FEDERAL COMMUNICATIONS COMMISSION

47 CFR Parts 2, 73, 74 and 90

[ET 03-158; MB 03-159; FCC 04-80]

New York City Metropolitan Area Public Safety Agencies to Use Frequencies at 482-488 MHz

AGENCY: Federal Communications Commission.

ACTION: Final rule.

SUMMARY: This document amends the rules of the Federal Communications Commission (FCC) to reallocate television channel 16 to the land mobile service in order to permit the New York Police Department and New York Metropolitan Advisory Committee (NYMAC) to utilize the channel for public safety services.

DATES: The rule changes will become effective July 8, 2004.

ADDRESSES: Federal Communications Commission, 445 12th St., SW., Washington, DC 20554.

FOR FURTHER INFORMATION CONTACT: Dave Roberts (202) 418-1600.

SUPPLEMENTARY INFORMATION: This is a summary of the FCC's Report and Order, (MO&O) FCC 04-80, adopted on March 31, 2004, and released on April 9, 2004. The full text of this document is available for inspection and copying during normal business hours in the FCC Reference Center, 445 12th Street, SW., Washington, DC 20554. The complete text may be purchased from the FCC's copy contractor, Qualex International, 445 12th Street, SW., Room CY-B402, Washington, DC 20554. The full text may also be downloaded at: http://www.fcc.gov. Alternative formats are available to persons with disabilities by contacting Brian Millin at (202) 418-7426 or TTY (202) 418-7365 or at bmillin@fcc.gov.

By this MO&O, the FCC reallocates television channel 16 to the land mobile service for use by the New York Police Department and NYMAC for public safety use in the New York metropolitan area.

The Commission has determined that the relevant provisions of the Regulatory Flexibility Act of 1980 do not apply to rule making proceedings to amend the TV Table of Allotments, § 73.606(b) of the Commission's rules. See Certification That §§ 603 and 604 of the Regulatory Flexibility Act Do Not Apply to Rule Making to Amend §§ 73.202(b), 73.504 and 73.606(b) of the Commission's Rules, 46 FR 11549, February 9, 1981.

Accordingly, it is ordered that pursuant to the authority contained in sections 1, 4(i), 4(j), 301, 303, 308, 309(j), and 337 of the Communications Act of 1934, as amended, 47 U.S.C. sections 151, 154(j), 157(a), 301, 303, 308, 309(j), and 337 this Report and Order is adopted.

List of Subjects in 47 CFR Parts 2, 73, 74 and 90

Television, Land mobile radio services.

Federal Communications Commission.
William F. Caton,
Deputy Secretary.

For the reasons discussed in the preamble, the Federal Communications Commission amends 47 CFR parts 2, 73, 74, and 90 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, the Table of Frequency Allocations, is amended as follows:

a. Revise page 37.

b. In the list of non-Federal Government (NG) footnotes, revise footnote NG66; and remove footnotes NG114 and NG127.

§ 2.106 Table of Frequency Allocations.

The revisions read as follows:

* * * * *

BILLING CODE 6712-01-P

* * * * *

Non-Federal Government (NG) Footnotes

* * * * *

NG66 The band 470-512 MHz (TV channels 14-20) is allocated to the broadcasting service on an exclusive basis throughout the United States and its insular areas, except as described below:

(a) In the urbanized areas listed in the table below, the indicated frequency bands are allocated to the land are allocated to the land mobile service on an exclusive basis for assignment to eligibles in the Public Mobile Services, the Public Safety Radio Pool, and the Industrial/Business Radio Pool, except that:

(1) Licensees in the land mobile service that are regulated as Commercial Mobile Radio Service (CMRS) providers may also use their assigned spectrum to provide fixed service on a primary basis.

(2) The use of the band 482-488 MHz (TV channel 16) is limited to eligibles in the Public Safety Radio Pool in or near (i) the Los Angeles urbanized area; and (ii) New York City; Nassau, Suffolk, and Westchester Counties in New York State; and Bergen County, New Jersey.

Urbanized area | Bands (MHz) | TV channels
Boston, MA | 470-476, 482-488 | 14, 16
Chicago, IL-Northwestern Indiana | 470-476, 476-482 | 14, 15
Cleveland, OH | 470-476, 476-482 | 14, 15
Dallas-Fort Worth, TX | 482-488 | 16
Detroit, MI | 476-482, 482-488 | 15, 16
Houston, TX | 488-494 | 17
Los Angeles, CA | 470-476, 482-488, 506-512 | 14, 16, 20
Miami, FL | 470-476 | 14
New York, NY-Northeastern New Jersey | 470-476, 476-482, 482-488 | 14, 15, 16
Philadelphia, PA-New Jersey | 500-506, 506-512 | 19, 20
Pittsburgh, PA | 470-476, 494-500 | 14, 18
San Francisco-Oakland, CA | 482-488, 488-494 | 16, 17
Washington, DC-Maryland-Virginia | 488-494, 494-500 | 17, 18

(b) In the Gulf of Mexico offshore from the Louisiana-Texas coast, the band 476-494 MHz (TV channels 15-17) is allocated to the fixed and mobile services on a primary basis for assignment to eligibles in the Public Mobile and Private Land Mobile Radio Services.

(c) In Hawaii, the band 488-494 MHz (TV channel 17) is allocated exclusively to the fixed service for use by common carrier control and repeater stations for point-to-point inter-island communications only.

(d) The use of these allocations is further subject to the conditions set forth in 47 CFR parts 22 and 90.

* * * * *

PART 73—RADIO BROADCAST SERVICES

3. The authority citation for Part 73 continues to read as follows:

Authority: 47 U.S.C. 154, 303, 334 and 336.

4. The table in 73.623(e) is amended by revising the entry for New York and by adding entries for Cleveland and Detroit to read as follows:

§ 73.623 DTV applications and changes to the DTV allotments.

* * * * *

(e) * * *

City | Channels | Latitude | Longitude
* * * * * * *
Cleveland, OH | 14, 15 | 41° 29′ 51.2″ | 081° 41′ 49.5″
* * * * * * *
Detroit, MI | 15, 16 | 42° 19′ 48.1″ | 083°02′ 56.7″
* * * * * * *
New York, NY | 14, 15, 16 | 40° 45′ 06″ | 073°59′ 39″
* * * * * * *

* * * * *

5. Section 73.6020 is amended by revising the last sentence to read as follows:

§ 73.6020 Protection of stations in the land mobile radio service.

• * * In addition to the protection requirements specified in § 74.709(a) of this chapter, Class A TV stations must not cause interference to land mobile stations operating on channel 16 in New York City; Nassau, Suffolk, and Westchester counties in New York State; and Bergen County, New Jersey.

PART 74—EXPERIMENTAL RADIO, AUXILIARY, SPECIAL BROADCASTING AND OTHER PROGRAM DISTRIBUTIONAL SERVICES

6. The authority citation for Part 74 continues to read as follows:

Authority: 47 U.S.C. 154, 303, 307, and 554.

7. Section 74.709(a) is amended by revising the entries for Los Angeles and New York City in the table to read as follows:

§ 74.709 Land Mobile station protection.

(a) * * *

City | Channels | Coordinates: Latitude | Coordinates: Longitude
* * * * * * *
Los Angeles, CA | 14, 16, 20 | 34° 03′ 15″ | 118° 18′ 28″
New York, NY | 14, 15, 16 | 40° 45′ 06″ | 073° 59′ 39″

* * * * *

PART 90—PRIVATE LAND MOBILE RADIO SERVICES

8. The authority citation for Part 90 continues to read as follows:

Authority: Sections 4(i), 11, 303(g), 303(r), and 332(c)(7) of the Communications Act of 1934, as amended, 47 U.S.C. 154(i), 161, 303(g), 303(r), 332(c)(7).

9. Section 90.303 is amended to read as follows:

§ 90.303 Availability of frequencies.

(a) Frequencies in the band 470-512 MHz are available for assignment as described below. Note: coordinates are referenced to the North American Datum 1983 (NAD83).

(b) The following table lists frequency bands that are available for assignment in specific urban areas. The available frequencies are listed in § 90.311 of this part.

Urbanized area | Geographic center: North latitude | Geographic center: West longitude | Banks (MHz) | TV channels
Boston, MA | 42° 21′24.4″ | 71° 03′ 23.2″ | 470-476, 482-488 | 14, 16
Chicago, IL ¹ | 41° 52′ 28.1″ | 87° 38′ 22.2″ | 470-476, 476-482 | 14, 15
Cleveland, OH ² | 41° 29′ 51.2″ | 81° 49′ 49.5″ | 470-476, 476-482 | 14, 15
Dallas/Fort Worth, TX | 32° 47′ 09.5″ | 96° 47′ 38.0″ | 482-488 | 16
Detroit, MI ³ | 42° 19′ 48.1″ | 83° 02′ 56.7″ | 476-482, 482-488 | 15, 16
Houston, TX | 29° 45′ 26.8″ | 95° 21′ 37.8″ | 488-494 | 17
Los Angeles, CA ⁴ | 34° 03′ 15.0″ | 118° 14′ 31.3″ | 470-476, 482-488, 506-512 | 14, 16, 20
Miami, FL | 25° 46′ 38.4″ | 80° 11′ 31.2″ | 470-476 | 14
New York/NE NJ | 40° 45′ 06.4″ | 73° 59′ 37.5″ | 470-476, 476-482, 482-488 | 14, 15, 16
Philadelphia, PA | 39° 56′ 58.4″ | 75° 09′ 19.6″ | 500-506, 506-512 | 19, 20
Pittsburgh, PA | 40° 26′ 19.2″ | 79° 59′ 59.2″ | 470-476, 494-500 | 14, 18
San Francisco/Oakland, CA | 37° 46′ 38.7″ | 122° 24′ 43.9″ | 482-488, 488-494 | 16, 17
Washington, DC/MD/VA | 38° 53′ 51.4″ | 77° 00′ 31.9″ | 488-494, 494-500 | 17, 18
¹ In the Chicago, IL, urbanized area, channel 15 frequencies may be used for paging operations in addition to low power base/mobile usages, where applicable protection requirements for ultrahigh frequency television stations are met.
² Channels 14 and 15 are not available in Cleveland, OH, until further order from the Commission.
³ Channels 15 and 16 are not available in Detroit, MI, until further order from the Commission.
⁴ Channel 16 is available in Los Angeles for use by eligibles in the Public Safety Radio Pool.

(c) The band 482-488 MHz (TV Channel 16) is available for use by eligibles in the Public Safety Radio Pool in the following areas: New York City; Nassau, Suffolk, and Westchester counties in New York State; and Bergen County, New Jersey. All part 90 rules shall apply to said operations, except that:

(1) Location of stations. Base stations shall be located in the areas specified in this paragraph (c). Mobile stations may operate throughout the areas specified in this paragraph (c) and may additionally operate in areas not specified in this paragraph (c) provided that the distance from the Empire State Building (40° 44′ 54.4″ N, 73° 59′ 8.4″ W) does not exceed 48 kilometers (30 miles).

(2) Protection criteria. In order to provide co-channel television protection, the following height and power restrictions are required:

(i) Except as specified in paragraph (c)(2)(ii) of this section, base stations shall be limited to a maximum effective radiated power (ERP) of 225 watts at an antenna height of 152.5 meters (500 feet) above average terrain (AAT). Adjustment of the permitted power will be allowed provided it is in accordance with the “169 kilometer Distance Separation” entries specified in Table B in 47 CFR 90.309(a) or the “LM/TV Separation 110 miles (177 km)” curve in Figure B in 47 CFR 90.309(b).

(ii) For base stations located west of the Hudson River, Kill Van Kull, and Arthur Kill, the maximum ERP and antenna height shall be limited to the entries specified in Table B in 47 CFR 90.309(a) or in Figure B in 47 CFR 90.309(b) for the actual separation distance between the base station and the transmitter site of WNEP-TV in Scranton, PA (41° 10′ 58.0″ N, 75° 52′ 20.0″ W).

(iii) Mobile stations shall be limited to 100 watts ERP in areas of operation extending eastward from the Hudson River and to 10 watts ERP in areas of operation extending westward from the Hudson River.

[FR Doc. 04-12425 Filed 6-7-04; 8:45 am]

BILLING CODE 6712-01-C